DEPARTMENT OF COMMERCE

National Oceanic and Atmospheric Administration

[I.D. 102000B]

Endangered Species; Permits

AGENCY: National Marine Fisheries Service (NMFS), National Oceanic and Atmospheric Administration (NOAA), Commerce.

ACTION: Receipt of an application for a enhancement permit 1251; Issuance of scientific research/enhancement permit 1128, scientific research permit 1149; Issuance of modified permits 1011 and 1144; Issuance of amended permit 1133.

SUMMARY: Notice is hereby given of the following actions regarding permits for takes of endangered and threatened species for the purposes of scientific research and/or enhancement: NMFS has received a enhancement permit application from Mr. Steven Fields, of Magnolia Springs State Park - GADNR (1251); NMFS has issued a scientific research/enhancement permit to the Oregon Department of Fish and Wildlife at La Grande, OR (ODFW) (1128); NMFS has issued a permit to the Columbia River Inter-Tribal Fish Commission at Portland, OR (CRITFC) (1149) and permit modifications to the Oregon Department of Fish and Wildlife at Portland, OR (ODFW) (1011) and Bruce D. Peery, Michael J. Bresette and Jonathan C. Gorham (1144); NMFS has issued an amended permit 1133 to Dr. Andre M. Landry, Jr., of the Department of Marine Biology, Texas A&M University at Galveston (TAMUG) (1133).

DATES: Comments or requests for a public hearing on any of the new applications or modification requests must be received at the appropriate address or fax number no later than 5 p.m. eastern standard time on November 29, 2000.

ADDRESSES: Written comments on any of the new applications or modification requests should be sent to the appropriate office as indicated below. Comments may also be sent via fax to the number indicated for the application or modification request. Comments will not be accepted if submitted via e-mail or the Internet. The applications and related documents are available for review in the indicated office, by appointment:

For application 1251; permits 1133 and 1144: Endangered Species Division, Office of Protected Resources, NMFS, 1315 East-West Highway, Silver Spring, MD, 20910 301-713-1401.

For permits 1128, 1149, 1011: Protected Resources Division, F/NWO3, 525 NE Oregon Street, Suite 500, Portland, OR 97232-2737 (ph: 503-230-5400, fax: 503-230-5435).

Documents may also be reviewed by appointment in the Office of Protected Resources, F/PR3, NMFS, 1315 East-West Highway, Silver Spring, MD 20910-3226 (301-713-1401).

FOR FURTHER INFORMATION CONTACT: For application 1251, permits 1133 and 1144: Terri Jordan, Silver Spring, MD (ph: 301-713-1401, fax: 301-713-0376, e-mail: Terri.Jordan@noaa.gov).

For permits 1128, 1149, 1011: Robert Koch, Portland, OR (ph: 503-230-5424, fax: 503-230-5435, e-mail: Robert.Koch@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species and evolutionarily significant units (ESU's) are covered in this notice:

Fish

Sockeye salmon (Oncorhynchus nerka): endangered Snake River (SnR).

Chinook salmon (O. tshawytscha): threatened SnR spring/summer, threatened SnR fall.

Steelhead (O. mykiss): threatened SnR.

Shortnose sturgeon (Acipenser brevirostrum).

Turtles

Endangered Green turtle (Chelonia mydas)

Endangered Hawksbill turtle (Eretmochelys imbricata)

Endangered Kemp's ridley turtle (Lepidochelys kempii)

Threatened Loggerhead turtle (Caretta caretta)

New Applications Received

Application 1251: The applicant requests a 5-year permit to continue to maintain two (2) adult shortnose sturgeon in captivity for enhancement purposes. The applicant currently possesses two adult shortnose sturgeon received from the U.S. Fish and Wildlife Service hatchery at Warm Springs, Georgia in November 1996 under scientific research permit 986. Permit 986 will expire on December 31, 2000, and the permit holder does not wish to renew the enhancement aspects of the permit. As a direct result, Magnolia Springs State Park - GADNR is applying for an individual permit to continue maintenance of these fish.

Permits, Modifications and Amendments Issued

Permit 1128: Notice was published on March 24, 1998, (63 FR 14069) that ODFW applied for a scientific research/enhancement permit. Permit 1128 was issued to ODFW on May 22, 2000, and a subsequent permit amendment was issued on September 21, 2000. Permit 1128 authorizes ODFW annual takes of adult and juvenile, threatened, naturally produced and artificially propagated, SnR spring/summer chinook salmon associated with a supplementation program at the Imnaha River and Lookingglass Creek Hatcheries. The objectives of ODFW's program are to: (1) Restore natural populations of chinook salmon in the basin to ESA delisting levels, (2) reestablish traditional tribal and recreational fisheries for chinook salmon, (3) maintain the genetic and life history characteristics of the endemic wild population while pursuing mitigation goals and management objectives, and (4) operate the hatchery program to ensure that the genetic and life history characteristics of the hatchery fish mimic the wild fish. ODFW will retain a percentage of the ESA-listed adult salmon that return to the Imnaha River weir each year for hatchery broodstock and release all of the ESA-listed adult salmon not retained for broodstock above the weir to spawn naturally. In a given year, if more hatchery-origin adult salmon are available than are needed to release above the weir or to keep for broodstock, ODFW will transport the excess hatchery-origin adults to Big Sheep and/or Lick Creeks and outplant them for natural spawning. ESA-listed adult salmon retained for broodstock will be transported to the hatcheries and spawned. The resulting progeny will be reared in the hatcheries, tagged with coded-wires and passive integrated transponders, and released when ready to outmigrate to the ocean. Annual incidental takes of endangered SnR sockeye salmon, threatened SnR fall chinook salmon, and threatened SnR steelhead associated with ODFW’s hatchery operations and juvenile fish releases from ODFW’s hatchery supplementation program are also authorized. The purpose of the September 21, 2000, amendment of permit 1128 was to correct some inadvertent clerical errors. Permit 1128 expires on December 31, 2003.

Permit 1149: Notice was published on April 23, 1998 (63 FR 20169), that CRITFC applied for a scientific research/enhancement permit (1149). Permit 1149 was issued to CRITFC on October 13, 2000. Permit 1149 authorizes the Nez Perce Tribe (NPT), a member tribe of CRITFC, annual takes of adult and juvenile, threatened, naturally produced and artificially propagated, SnR spring/summer chinook salmon associated with its contribution to a hatchery supplementation program for the Lostine River population of chinook salmon. The supplementation program is a component of a coordinated enhancement effort initiated by ODFW in 1995 with a captive broodstock program for three Grande Ronde River Basin populations: Catherine Creek, upper Grande Ronde River, and Lostine River. NPT's objectives are to: (1) collect adult chinook salmon from the Lostine River to be used as broodstock to produce smolts through conventional hatchery production for acclimated releases back into the Lostine River; (2) provide monitoring and evaluation of returning adults from captive brood, conventional, and natural production; and (3) provide acclimation release facilities for captive brood smolts produced under the authority of ODFW’s permit 1011 (see below). ESA-listed adult salmon that return to the Lostine River each year will be captured by NPT at a weir, tagged and/or marked, and sampled for tissues and scales. NPT will retain a percentage of the ESA-listed adult salmon from natural production or conventional hatchery production that return to the weir each year for hatchery broodstock. The ESA-listed adult salmon not retained for broodstock, including all adult salmon from captive brood production, will be released above the weir to spawn naturally. ESA-listed adult salmon retained for broodstock will be transported to ODFW’s Lookingglass Hatchery and spawned under the authority of ODFW’s permit 1011. The resulting progeny will be reared in the hatchery, tagged with coded-wires and passive integrated transponders, and transferred to NPT for release when they are ready to outmigrate to the ocean. Annual incidental takes of SnR sockeye salmon, SnR fall chinook salmon, and SnR steelhead associated with NPT’s juvenile fish releases in the Lostine River are also authorized. Permit 1149 expires on December 31, 2002.

Permit 1011: Notice was published on April 23, 1998 (63 FR 20169), that ODFW applied for modification 2 to scientific research/enhancement permit 1011. Modification 2 to permit 1011 was issued to ODFW on October 13, 2000. Permit 1011 authorizes ODFW annual takes of adult and juvenile, threatened, naturally produced and artificially propagated, SnR spring/summer chinook salmon associated with a captive broodstock program for the Catherine Creek, upper Grande Ronde River, and Lostine River populations of chinook salmon. For modification 2, ODFW is authorized to use adult weirs to capture returning adults from Catherine Creek and the upper Grande Ronde River for broodstock to continue the hatchery supplementation program that was initiated by ODFW in 1997. NPT is a cooperator with ODFW’s enhancement efforts and will be primarily responsible for operating adult trapping and smolt acclimation facilities at the Lostine River under the authority of permit 1149 (see above). The ESA-listed adult salmon not retained for broodstock, including all adult salmon from captive brood production, will be tagged and/or marked, sampled for tissues and scales, and released above the weirs to spawn naturally. ESA-listed adult salmon retained for broodstock will be transported to ODFW’s Lookingglass Hatchery where they will be spawned, the resulting eggs incubated, and the juveniles reared. The resulting smolts will be transported and released in their respective stream of origin when they are ready to outmigrate to the ocean. Annual incidental takes of SnR sockeye salmon, SnR fall chinook salmon, and SnR steelhead associated with ODFW’s hatchery operations and juvenile fish releases are authorized. The Confederated Tribes of the Umatilla Indian Reservation, a member of CRITFC, is authorized to act as an agent of ODFW under permit 1011. Permit 1011, which was due to expire on December 31, 2000, has been extended for 2 years and is now due to expire on December 31, 2002. Modification 2 is valid for the duration of the permit.

Permit 1133: Andre M. Landry currently possesses a 5-year scientific research permit to take listed sea turtles for the purpose of conducting studies on population status and recovery potential, habitat preference, movement and migration, foraging patterns, and impact of man's activities such as commercial and recreational fishing, dredging and habitat alteration/pollution. Dr. Landry is currently authorized to take listed sea turtles annually from locations within the Western Gulf of Mexico, through the use of entanglement nets.

Due to a recent net mortality, NMFS has amended permit 1133 to add special conditions to reduce the likelihood of additional mortalities associated with research activities in the Gulf of Mexico. The amendment also clarifies take levels from the original permit and updates regulatory citations. Amendment 1 to Permit 1133 was issued on October 19, 2000, authorizing the continued take of listed species. Permit 1133 expires January 31, 2003.

Permit 1144: Notice was published on June 21, 2000 (65 FR 38509), that Bruce D. Peery, Michael J. Bresette and Jonathan C. Gorham applied for a modification to 1144. The applicants possess a 2-year scientific research permit to take up to 100 green (Chelonia mydas), five Kemp's ridley (Lepidochelys kempii) and 25 loggerhead (Caretta caretta) turtles annually in large mesh tangle nets for the purposes of stock assessment to characterize the sea turtles that utilize the southern Indian River Lagoon System, Florida. Captured turtles will be weighed, photographed, measured, tagged, and released. Modification #2 extends the expiration date of permit #1144 to July 31, 2003.

Dated: October 24, 2000.
Margaret C. Lorenz,
Acting Chief, Endangered Species Division, Office of Protected Resources, National Marine Fisheries Service.

[FR Doc. 00-27823 Filed 10-27-00; 8:45 am]

BILLING CODE 3510-22-S